DEPARTMENT OF AGRICULTURE

Submission for OMB Review; Comment Request

July 23, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

30-day Federal Register Notice

Food and Nutrition Service

Title: The Special Supplemental Nutrition Program for Women, Infants, and Children (WIC) Nutrition Education Study

OMB Control Number: 0584-NEW

Summary of Collection: The Healthy, Hunger-Free Kids Act of 2010 (Pub. L. 111-296, Sect 305) mandates programs under it authorization to cooperate with U.S. Department of Agriculture program research and evaluation activities. The mandate applies to Special Supplemental Nutrition Program for Women, Infants, and Children (WIC) agencies. Through Federal grants to States, WIC provides supplemental foods, health care referrals, and nutrition education to low-income pregnant, breastfeeding, and nonbreastfeeding postpartum women and to infants and children who are found to be at nutritional risk. By Federal directive, all WIC participants have the opportunity to participate in nutrition education at least two times during a 6-month period of eligibility or quarterly for a 12-month period. The Food and Nutrition Service (FNS) is conducting the WIC Nutrition Education Study to provide a nationally representative description of how nutrition education is currently being provided to WIC recipients across the country.

Need and Use of the Information: FNS will conduct a study of the impact of nutrition education on WIC participants' nutrition and physical activity behaviors. The study will provide FNS with a better understanding of nutrition education practices and methods used by WIC and of the effectiveness of current WIC nutrition education services. The objectives of the study are to (1) provide a comprehensive nationally representative description of WIC nutrition education and (2) conduct a pilot study in six WIC sites to demonstrate and refine an evaluation of the impact of WIC nutrition education on participants' nutrition and physical activity behaviors.

Description of Respondents: Individuals or household; State, Local or Tribal Government

Number of Respondents: 3,366

Frequency of Responses: Reporting: Other (one time)

Total Burden Hours: 1,201

Ruth Brown,
Departmental Information Collection Clearance Officer.

[FR Doc. 2014-17765 Filed 7-28-14; 8:45 am]

BILLING CODE 3410-30-P